DEPARTMENT OF HOMELAND SECURITY

8 CFR Part 274a

[BCIS No. 2152-01]

RIN 1615-AA63

Employment Authorization Documents; Correction

AGENCY: Bureau of Citizenship and Immigration Services, DHS.

ACTION: Interim rule: correction.

SUMMARY: The Department of Homeland Security (DHS) published in the Federal Register of July 30, 2004, an interim rule which amended the DHS regulations governing issuance of Employment Authorization Documents (EADs). The interim rule contained an error that is corrected in this document.

DATES: This correction is effective July 30, 2004.

FOR FURTHER INFORMATION CONTACT: Jonathan Mills, Residence and Status Services, Office of Program and Regulations Development, Bureau of Citizenship and Immigration Services, Department of Homeland Security, 425 “I” Street, NW., ULLICO Building, Third Floor, Washington, DC 20536, telephone (202) 514-4754.

SUPPLEMENTARY INFORMATION:

Need for Correction

As published in the Federal Register on July 30, 2004 (69 FR 45555), the interim rule amending part 274a contains an error that is in need of correction.

Correction of Publication

Accordingly, the publication on July 30, 2004 (69 FR 45555), of the interim rule that was the subject of FR Doc. 04-16938 is corrected as follows:

PART 274a—CONTROL OF EMPLOYMENT OF ALIENS

§ 274a.12 [Corrected]

1. On page 45557, in the first column, amendatory instruction 2d is corrected to read: “Revising paragraph (c), introductory text;”

Dated: August 3, 2004.
Richard A. Sloan,
Director, Regulations and Forms Services Division.

[FR Doc. 04-17971 Filed 8-5-04; 8:45 am]

BILLING CODE 4410-10-P